DEPARTMENT OF HOMELAND SECURITY

Federal Emergency Management Agency

[Docket ID FEMA-2015-0001]

Final Flood Hazard Determinations

AGENCY: Federal Emergency Management Agency, DHS.

ACTION: Final notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The effective date of March 16, 2016, which has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at www.msc.fema.gov by the effective date indicated above.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at www.msc.fema.gov.

The flood hazard determinations are made final in the watersheds and/or communities listed in the table below.

(Catalog of Federal Domestic Assistance No. 97.022, “Flood Insurance.”)

Dated: November 23, 2015.
Roy E. Wright,
Deputy Associate Administrator for Insurance and Mitigation, Department of Homeland Security, Federal Emergency Management Agency.

I. Watershed-based studies:

Community | Community map repository address
Middle Coosa Watershed
Calhoun County, Alabama, and Incorporated Areas
Docket No.: FEMA-B-1453
City of Anniston | City Hall, 1128 Gurnee Avenue, Anniston, AL 36201.
City of Jacksonville | City Hall, 320 Church Avenue Southeast, Jacksonville, AL 36265.
City of Oxford | City Hall, 145 Hamric Drive East, Oxford, AL 36203.
City of Piedmont | City Hall, 109 North Center Avenue, Piedmont, AL 36272.
City of Weaver | City Hall, 500 Anniston Street, Weaver, AL 36277.
Town of Hobson City | Town Hall, 715 Martin Luther King Drive, Hobson City, AL 36201.
Town of Ohatchee | Town Hall, 7801 Highway 77, Ohatchee, AL 36271.
Unincorporated Areas of Calhoun County | Calhoun County EMA, 507 Francis Street West, Jacksonville, AL 36265.
Cherokee County, Alabama, and Incorporated Areas
Docket No.: FEMA-B-1453
City of Centre | City Hall, 401 East Main Street, Centre, AL 35960.
Unincorporated Areas of Cherokee County | County Engineering Department, 1875 East Main Street, Centre, AL 35960.
Etowah County, Alabama, and Incorporated Areas
Docket No.: FEMA-B-1453
City of Attalla | City Hall, 612 North 4th Street, Attalla, AL 35954.
City of Gadsden | City Hall, 90 Broad Street, Gadsden, AL 35901.
City of Glencoe | City Hall, 201A West Chastain Boulevard, Glencoe, AL 35905.
City of Hokes Bluff | City Hall, 3301 Alford Bend Road, Hokes Bluff, AL 35903.
City of Rainbow City | City Hall, 3700 Rainbow Drive, Rainbow City, AL 35906.
City of Southside | City Hall, 2255 Highway 77, Southside, AL 35907.
Town of Reece City | Reece City Town Hall, 1023 Valley Drive, Attalla, AL 35954.
Town of Sardis City | Town Hall, 1335 Sardis Drive, Sardis City, AL 35956.
Unincorporated Areas of Etowah County | Etowah County Courthouse, 800 Forrest Avenue, Gadsden, AL 35901.
Talladega County, Alabama, and Incorporated Areas
Docket No.: FEMA-B-1453
City of Childersburg | City Hall, 201 8th Avenue Southwest, Childersburg, AL 35044.
City of Lincoln | City Hall, 150 Magnolia Street, Lincoln, AL 35096.
City of Sylacauga | City Hall, 301 North Broadway Avenue, Sylacauga, AL 35150.
City of Talladega | City Hall, 203 South Street West, Talladega, AL 35161.
Unincorporated Areas of Talladega County | Talladega County Highway Department Engineering Office, 500 Institute Lane, Talladega, AL 35161.

II. Non-watershed-based studies:

Community | Community map repository address
Marin County, California, and Incorporated Areas
Docket No.: FEMA-B-1413
City of Belvedere | Building Department, 450 San Rafael Avenue, Belvedere, CA 94920.
City of Larkspur | Planning Department, 400 Magnolia Avenue, Larkspur, CA 94939.
City of Mill Valley | Public Works Department, 26 Corte Madera Avenue, Mill Valley, CA 94941.
City of Novato | Public Works Department, 922 Machin Avenue, Novato, CA 94945.
City of San Rafael | Public Works Department, 111 Morphew Street, San Rafael, CA 94901.
City of Sausalito | Planning Department, 420 Litho Street, Sausalito, CA 94965.
Town of Corte Madera | Engineering Department, 233 Tamalpais Drive, Corte Madera, CA 94976.
Town of Ross | Public Works Department, 31 Sir Francis Drake Boulevard, Ross, CA 94957.
Town San Anselmo | Public Works Department, 525 San Anselmo Avenue, San Anselmo, CA 94960.
Town of Tiburon | Planning Department, 1505 Tiburon Boulevard, Tiburon, CA 94920.
Unincorporated Areas of Marin County | Department of Public Works, 3501 Civic Center Drive, Room 304, San Rafael, CA 94903.
Douglas County, Colorado, and Incorporated Areas
Docket No.: FEMA-B-1447
City of Lone Tree | City of Lone Tree Public Works Department, 9222 Teddy Lane, Lone Tree, CO 80124.
Town of Castle Rock | Town of Castle Rock Utilities Department, 175 Kellogg Court, Castle Rock, CO 80109.
Town of Parker | Town of Parker Stormwater Utility, Public Works Department, 20120 East Mainstreet, Parker, CO 80138.
Unincorporated Areas of Douglas County | Douglas County Public Works, Engineering Department, 100 Third Street, Castle Rock, CO 80104.
Lake County, Indiana, and Incorporated Areas
Docket No.: FEMA-B-1404
Town of Griffith | Town Hall, 111 North Broad Street, Griffith, IN 46319.
Town of Highland | Town Hall, 3333 Ridge Road, Highland, IN 46322.
Town of Munster | Town Hall, 1005 Ridge Road, Munster, IN 46321.
Town of Schererville | Town Hall, 10 East Joliet Street, Schererville, IN 46375.
Unincorporated Areas of Lake County | County Building, 2293 North Main Street, Crown Point, IN 46307.
Bourbon County, Kansas, and Incorporated Areas
Docket No.: FEMA-B-1459
City of Fort Scott | Memorial Hall, 1 East Third Street, Fort Scott, KS 66701.
Unincorporated Areas of Bourbon County | GIS Office, 210 South National Avenue, Fort Scott, KS 66701.
Suffolk County, Massachusetts (All Jurisdictions)
Docket No.: FEMA-B-1356
City of Boston | City Hall, One City Hall Square, Boston, MA 02201.
City of Chelsea | City Hall, 500 Broadway, Chelsea, MA 02150.
City of Revere | City Hall, 281 Broadway, Revere, MA 02151.
Town of Winthrop | Town Hall, One Metcalf Square, Winthrop, MA 02152.
Dakota County, Minnesota, and Incorporated Areas
Docket No.: FEMA-B-1436
City of Hastings | City Hall, 101 Fourth Street East, Hastings, MN 55033.
Lucas County, Ohio, and Incorporated Areas
Docket No.: FEMA-B-1436
City of Toledo | Department of Inspection, One Government Center, Suite 1600, Toledo, OH 43604.
Unincorporated Areas of Lucas County | Lucas County Engineer's Office, 1049 South McCord Road, Holland, OH 43528.
Village of Ottawa Hills | Jean W. Youngen Municipal Building, 2125 Richards Road, Ottawa Hills, OH 43606.

[FR Doc. 2015-31376 Filed 12-11-15; 8:45 am]

BILLING CODE 9110-12-P